DEPARTMENT OF THE INTERIOR

National Park Service

[NPS-WASO-NRNHL-DTS#-40193; PPWOCRADI0, PCU00RP14.R50000]

National Register of Historic Places; Notification of Pending Nominations and Related Actions

AGENCY: National Park Service, Interior.

ACTION: Notice.

SUMMARY: The National Park Service is soliciting electronic comments on the significance of properties nominated before May 10, 2025, for listing or related actions in the National Register of Historic Places.

DATES: Comments should be submitted electronically by June 17, 2025.

ADDRESSES: Comments are encouraged to be submitted electronically to National_Register_Submissions@nps.gov with the subject line “Public Comment on <property or proposed district name, (County) State>. If you have no access to email, you may send them via U.S. Postal Service and all other carriers to the National Register of Historic Places, National Park Service, 1849 C Street NW, MS 2013, Washington, DC 20240.

FOR FURTHER INFORMATION CONTACT: Sherry A. Frear, Chief, National Register of Historic Places/National Historic Landmarks Program, 1849 C Street NW, MS 2013, Washington, DC 20240, sherry_frear@nps.gov, 202-913-3763.

SUPPLEMENTARY INFORMATION: The properties listed in this notice are being considered for listing or related actions in the National Register of Historic Places. Nominations for their consideration were received by the National Park Service before May 10, 2025. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name (if applicable), Address/Boundary, City, Vicinity, Reference Number.

ALABAMA

Calhoun County

Oxford Railway Depot, 50 Spring Street, Oxford, SG100011947

Shelby County

Wallace House, 35184 Highway 25, Harpersville, SG100011941

CALIFORNIA

Humboldt County

Karuk Trail Home Ridge Cultural Landscape, Address Restricted, Somes Bar vicinity, SG100011940

KENTUCKY

Jefferson County

Fifth and Market Streets Historic District, 201-235 S Fifth Street (east side only) and 426-440 W Market, Louisville, 90001487

MAINE

Androscoggin County

Araxine Wilkins Sawyer Memorial, 371 Sawyer Road, Greene, SG100011942

Penobscot County

Johonnot, Co. Gabriel, House, 588 Kennebec Road, Hampden, SG100011943

MISSISSIPPI

Benton County

J.W. Crawford & Co. General Store, 1187 Spruce St., Hickory Flat, SG100011933

OREGON

Marion County

Mill Place House Site, (Oregon Country Methodist Mission Sites: 1834-1847 MPS), Address Restricted, Salem, MP100011951

VIRGINIA

Frederick, Shenandoah, and Warren Counties

Cedar Creek and Belle Grove National Historical Park, 8693 Valley Pike, Middletown vicinity, 04000273

WISCONSIN

Kewaunee County

MARGARET A. MUIR Shipwreck (Schooner), (Great Lakes Shipwreck Sites of Wisconsin MPS), Address Restricted, Algoma vicinity, MP100011949

A request for removal has been made for the following resource(s):

OREGON

Baker County

Oregon Commercial Company Building, 40-50 E Washington St., Huntington, OT92000666

An additional documentation has been received for the following resource(s):

DISTRICT OF COLUMBIA

District of Columbia

Mount Pleasant Historic District (Additional Documentation), Roughly bounded by Sixteenth & Harvard Sts., Rock Creek Church Rd., & Adams Mill Rd., Washington, AD87001726

Nomination(s) submitted by Federal Preservation Officers:

The State Historic Preservation Officer reviewed the following nomination(s) and responded to the Federal Preservation Officer within 45 days of receipt of the nomination(s) and supports listing the properties in the National Register of Historic Places.

CALIFORNIA

San Bernardino County

Kelso Depot, Restaurant and Employees Hotel (Boundary Increase II), Kelbaker Rd., jct. of Kelbaker and Cima Rds. at Union Pacific Railroad crossing, Kelso, BC100011934

NEW MEXICO

Eddy County

Dark Canyon Fire Lookout Complex, (National Forest Fire Lookouts in the Southwestern Region TR), Tower is 0.4 mile east of the junction of Forest Service (FS) road 69A and FS 201. Tower is on FS 201at 32.081667, -104.739601. Carlsbad vicinity, MP100011945

Lincoln County

Mesa Ranger Station Barn, Lincoln County, New Mexico, National Forest Road 131/Ranger Road, Lincoln National Forest, Nogal vicinity, SG100011946

Authority: Section 60.13 of 36 CFR part 60.

Sherry A. Frear,
Chief, National Register of Historic Places/National Historic Landmarks Program.

[FR Doc. 2025-09836 Filed 5-30-25; 8:45 am]

BILLING CODE 4312-52-P